DEPARTMENT OF AGRICULTURE

Rural Business-Cooperative Service

[DOCKET #: RBS-22—BUSINESS-0021]

Notice of Solicitation of Applications for the Rural Business Development Grant Programs for Fiscal Year 2023

AGENCY: Rural Business-Cooperative Service, USDA.

ACTION: Notice.

SUMMARY: This notice is given to invite applications for grants under the Rural Business Development Grant (RBDG) Program for fiscal year (FY) 2023, subject to the availability of funding. This notice is being issued prior to passage of a FY 2023 Appropriations Act in order to allow applicants sufficient time to leverage financing, prepare and submit their applications, and give the Agency time to process applications within FY 2023. Based on FY 2022 appropriated funding, the Agency estimates that approximately $46,000,000 will be available for FY 2023. Successful applications will be selected by the Agency for funding and subsequently awarded to the extent that funding may ultimately be made available through appropriations. An announcement on the website at https://www.rd.usda.gov/newsroom/federal-funding-opportunities will identify the amount available in FY 2023 for RBDG applications. All applicants are responsible for any expenses incurred in developing their applications.

DATES: Complete applications may be submitted in paper or electronic format and must be received by 4:30 p.m. local time on February 28, 2023, in the USDA Rural Development (RD) State Office for the State where the project is located. A list of the USDA RD State Offices can be found at: https://www.rd.usda.gov/about-rd/state-offices.

ADDRESSES: This funding announcement will also be announced on www.Grants.gov. Applications must be submitted to the USDA RD State Office for the State where the project is located. For projects involving multiple states, the application must be filed in the RD State Office where the Applicant is located. Applicants are encouraged to contact their respective RD State Office for an email contact to submit an electronic application prior to the submission deadline date. A list of the USDA RD State Office contacts can be found at: https://www.rd.usda.gov/about-rd/state-offices.

FOR FURTHER INFORMATION CONTACT: Lisa Sharp at lisa.sharp@usda.gov, or Cindy Mason at cindy.mason@usda.gov, Program Management Division, Rural Business-Cooperative Service, U.S. Department of Agriculture, 1400 Independence Avenue SW, MS 3226, Room 5160-South, Washington, DC 20250-3226, or call (202) 720-1400. For further information on submitting program applications under this notice, please contact the USDA RD State Office in the State where the applicant's headquarters is located. A list of RD State Office contacts is provided at the following link: https://www.rd.usda.gov/about-rd/state-offices.

SUPPLEMENTARY INFORMATION:

Overview

Federal Agency Name: Rural Business-Cooperative Service.

Funding Opportunity Title: Rural Business Development Grant Program.

Announcement Type: Initial Solicitation Announcement.

Funding Opportunity Number: RDBCP-RBDG-2023.

Assistance Listing: 10.351.

Dates: Complete applications may be submitted in paper or electronic format and must be received by 4:30 p.m. local time on February 28, 2023, in the USDA RD State Office for the State where the project is located. A list of the USDA RD State Offices can be found at: https://www.rd.usda.gov/about-rd/state-offices.

Rural Development Key Priorities: The Agency encourages applicants to consider projects that will advance the following key priorities (more details available at https://www.rd.usda.gov/priority-points):

• Assisting rural communities to recover economically through more and better market opportunities and through improved infrastructure.

• Ensuring all rural residents have equitable access to RD programs and benefits from RD funded projects.

• Reducing climate pollution and increasing resilience to the impacts of climate change through economic support to rural communities.

A. Program Description

1. Purpose of the Program. The purpose of the program is to promote economic development and job creation projects through the awarding of grant funds to eligible entities. Applications will compete in two separate categories, business opportunity grants and business enterprise grants, for use in funding various business and community projects that serve rural areas.

Business opportunity projects must be in compliance with eligible uses as stated in 7 CFR 4280.417(a)(1) (eCFR:: 7 CFR 4280.417—Project eligibility) that include the establishment of business support centers or providing funds for job training and leadership development in rural areas. Business opportunity projects must be consistent with any local and area-wide strategic plans for community and economic development, coordinated with other economic development activities in the project area, and consistent with any RD State Strategic Plan.

Business enterprise projects must be in compliance with eligible uses as stated in 7 CFR 4280.417(a)(2) (eCFR: 7 CFR 4280.417—Project eligibility.) and are to be used to finance or develop small and emerging businesses in rural areas. Enterprise grant purposes include projects for the acquisition and development of land, access streets and roads, the conversion or modernization of buildings, capitalization of revolving loan funds and the purchase of machinery and equipment for businesses located in a rural area.

2. Statutory and Regulatory Authority.

(a) RBDG Program: The RBDG Program is authorized under 7 U.S.C. 1932(c) (https://www.govinfo.gov/link/uscode/7/1932) and implemented by 7 CFR part 4280, subpart E (https://www.ecfr.gov/current/title-7/part-4280/subpart-E). Assistance provided under the RBDG Program will be made to eligible entities and will be used for funding various business opportunity projects and business enterprise projects, as applicable, that serve Rural Areas.

(b) Set-Aside Funding: The Consolidated Appropriations Act, 2022 (Pub. L. 117-103), designated funding for Federally-Recognized Native American Tribes, Rural Empowerment Zone/Enterprise Communities/Rural Economic Area Partnerships, projects in Persistent Poverty Counties (as discussed below), Native American Persistent Poverty areas and for Strategic Economic and Community Development (SECD) projects in FY 2022.

Set-aside funding may or may not be made available through appropriations in FY 2023 where continued emphasis is given to financial assistance for projects located in these areas. Eligible applicants for the Native American and Rural Empowerment Zone/Enterprise Communities/Rural Economic Area Partnership set-aside funds, if available, must demonstrate that at least 75 percent of the benefits of an approved grant will assist beneficiaries in the designated areas. Eligible applicants for the Persistent Poverty Counties, Native American Persistent Poverty areas, and the SECD set-aside funds, if available, must demonstrate that 100 percent of the benefits of an approved grant will assist beneficiaries in the designated areas. The completed application deadline for these set-aside funds, if available, is consistent with the RBDG application deadline date of February 28, 2023. Applicants for set-aside funds must indicate that they are applying for set-aside funds and may not submit a duplicate application for regular RBDG funds. If funding for an anticipated set-aside program is not appropriated in FY 2023, or if any eligible applications for set-aside funding are not funded due to insufficient funds, such applications will be allowed to compete for available FY 2023 regular RBDG funds in the State where the project is located.

(c) Persistent Poverty Funding: The Consolidated Appropriations Act, 2022 (Pub. L. 117-103) provides designated funding for projects in Persistent Poverty Counties. “Persistent Poverty Counties” as defined in section 736 is “any county that has had 20 percent or more of its population living in poverty over the past 30 years, as measured by the 1990 and 2000 decennial censuses, and 2007-2011 American Community Survey 5-year average, or any territory or possession of the United States”. Another provision in section 736 expands the eligible population in Persistent Poverty Counties to include any county seat of such a Persistent Poverty County that has a population that does not exceed the authorized population limit by more than 10 percent. This provision expands the current 50,000 population limit to 55,000 for only county seats located in Persistent Poverty Counties. Therefore, beneficiaries of technical assistance services located in county seats of Persistent Poverty Counties with populations up to 55,000 (per the 2010 Census) have been deemed eligible. Comparable statutory provisions may or may not be included in the appropriations act for FY 2023.

3. Definitions. The definitions applicable to this notice are published at 7 CFR 4280.403 (eCFR :: 7 CFR 4280.403—Definitions.).

4. Application of Awards. Awards under the RBDG Program will be made on a competitive basis using specific selection criteria contained in 7 CFR part 4280, subpart E (https://www.ecfr.gov/current/title-7/part-4280/subpart-E). The Agency will review, evaluate, and score applications received in response to this notice based on the provisions found in 7 CFR part 4280, subpart E (https://www.ecfr.gov/current/title-7/part-4280/subpart-E), and as indicated in this notice. The Agency advises all interested parties that the applicant bears the full burden in preparing and submitting an application in response to this notice whether or not funding is appropriated for this program in FY 2023.

B. Federal Award Information

Type of Awards: Grants.

Fiscal Year Funds: FY 2023.

Available Funds: Dependent upon FY 2023 appropriations. Funding is anticipated to be approximately $46 million based on FY 2022 amounts. RBCS may at its discretion, increase the total level of funding available in this funding round [or in any category in this funding round] from any available source provided the awards meet the requirements of the statute which made the funding available to the Agency.

Award Amounts: No Minimum or Maximum.

Anticipated Award Dates: Set-Aside awards, if applicable: May 31, 2023. Regular awards: August 31, 2023.

Performance Period: June 1, 2023, through September 30, 2025.

Renewal or Supplemental Awards: None.

Type of Assistance Instrument: Grant Agreement.

C. Eligibility Information

1. Eligible Applicants.

Grants may be made to a Public Body/Government Entity, an Indian Tribe, or a Nonprofit entity primarily serving rural areas. In accordance with 7 CFR 4280.416(d) (https://www.ecfr.gov/current/title-7/section-4280.416#p-4280.416(d)), applicants that are not delinquent on any Federal debt or not otherwise disqualified from participation in these Programs are eligible to apply. The Agency will check the System for Award Management (SAM) to determine if the applicant has been debarred or suspended at the time of application and prior to the awarding of grant funds.

2. Cost Sharing or Matching. There are no cost sharing or matching requirements associated with this grant.

3. Other. Grant funds may be used for projects identified in 7 CFR 4280.417(a) (eCFR:: 7 CFR 4280.417—Project eligibility.) as either a business opportunity type grant or a business enterprise type grant.

D. Application and Submission Information

1. Address to Request Application Package.

Entities wishing to apply for assistance should contact the USDA RD State Office provided in the ADDRESSES section of this notice to obtain copies of the application package. If you require alternative means of communication for program information (e.g., Braille, large print, audiotape, etc.) please contact USDA's TARGET Center at (202) 720-2600 (voice and TDD).

2. Content and Form of Application Submission.

(a) The applicant documentation and forms needed for a complete application are located in 7 CFR part 4280, subpart E (https://www.ecfr.gov/current/title-7/part-4280/subpart-E), a copy of which will be provided to any interested applicant making a request to a USDA RD State Office for the State where the project is located. A list of the USDA RD State Offices can be found at: https://www.rd.usda.gov/about-rd/state-offices.

(b) The Agency requires information to make an eligibility determination through applications that must include the items identified in 7 CFR 4280.427 (https://www.ecfr.gov/current/title-7/section-4280.427). The written narrative outlined in 7 CFR 4280.427(d) should include the following for Other Information:

(1) Please note that no assistance or funding can be provided to hemp producers or processors unless they have a valid license issued from an approved State, Tribal or Federal plan as per section 10113 of the Agriculture Improvement Act of 2018, Public Law 115-334 (https://www.govinfo.gov/link/plaw/115/public/334). Verification of valid hemp licenses will occur at the time of award; and

(2) Other information the Agency may request to assist in making a grant award determination.

Each selection priority criterion outlined in 7 CFR 4280.427 (https://www.ecfr.gov/current/title-7/section-4280.427) must be addressed in the application. Failure to address any of the criterion will result in a zero-point score for that criterion and will impact the overall evaluation of the application.

(c) The application must be submitted in one package. The single package should be well organized and include a table of contents, if appropriate. There are no specific limitations on number of pages, font size and type face, margins, paper size, and the sequence or assembly requirements other than those described in 7 CFR part 4280, subpart E (https://www.ecfr.gov/current/title-7/part-4280/subpart-E).

(d) An original copy of the application must be filed with the RD State Office for the State where the project is located. For projects involving multiple states, the application must be filed in the RD State Office where the Applicant is located.

(e) The component pieces of this application require original signatures on the original application. Any form that requires an original signature but is signed electronically in the application submission must be signed in ink by the authorized person prior to the disbursement of funds.

(f) RBDG grants must conform with the environmental policies and procedures of 7 CFR part 1970 (eCFR :: 7 CFR part 1970—Environmental Policies and Procedures).

3. System for Award Management and Unique Entity Identifier.

(a) At the time of application, each applicant must have an active registration in SAM before submitting its application in accordance with 2 CFR 25 (https://www.ecfr.gov/current/title-2/subtitle-A/chapter-I/part-25). In order to register in SAM, entities will be required to create a Unique Entity Identifier (UEI). Instructions for obtaining the UEI are available at https://sam.gov/content/entity-registration.

(b) Applicants must maintain an active SAM registration, with current, accurate and complete information, at all times during which it has an active Federal award or an application under consideration by a Federal awarding agency.

(c) Applicants must ensure they complete the Financial Assistance General Certifications and Representations in SAM.

(d) Applicants must provide a valid UEI in its application, unless determined exempt under 2 CFR 25.110 (https://www.ecfr.gov/current/title-2/subtitle-A/chapter-I/part-25/subpart-A/section-25.110).

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times.

(a) Application Technical Assistance Deadline Date: Prior to official submission of grant applications, applicants may request technical assistance or other application guidance from the Agency, as long as such requests are made prior to February 10, 2023. Technical assistance is not meant to be an analysis or assessment of the quality of the materials submitted, a substitute for agency review of completed applications, nor a determination of eligibility.

(b) Application Deadline Date: Applications (paper or electronic format) must be submitted to the appropriate RD State Office no later than 4:30 p.m. (local time) on February 28, 2023. If completed applications are not received by the deadline date, the application will neither be reviewed nor considered for funding under any circumstances. The Agency will not solicit or consider scoring or eligibility information that is submitted after the application deadline. The Agency reserves the right to contact applicants to seek clarification information on materials contained in the submitted application.

5. Intergovernmental Review.

Intergovernmental Review under Executive Order 12372 is not required in this program.

6. Funding Restrictions.

(a) Indirect costs will be permitted in accordance with applicable law and in accordance with 2 CFR part 200 (https://www.ecfr.gov/current/title-2/part-200). Pre-Federal award costs will only be permitted with prior written approval by the Agency.

(b) In accordance with 7 CFR 4280.421 (eCFR :: 7 CFR 4280.421—Term requirement.), a project must reasonably be expected to be completed within one (1) full year after it has begun.

7. Other Submission Requirements.

Applicants may submit applications in hard copy or electronic format as previously indicated in the Application and Submission Information section of this notice. If the applicant wishes to hand deliver its application, the addresses for these deliveries are located in the ADDRESSES section of this notice.

E. Application Review Information

1. Criteria.

(a) The Agency will review each application for assistance in accordance with the priorities established in 7 CFR 4280.435 (eCFR :: 7 CFR 4280.435—Scoring criteria.). The Agency will assign each application a priority rating and will select applications for funding based on the priority ratings and the total funds available to the program. Failure to address any one of the criteria by the application deadline will result in the application being determined ineligible, and the application will not be considered for funding.

(b) The Agency will use the criteria in 7 CFR 4280.435 (eCFR :: 7 CFR 4280.435—Scoring criteria.) to score applications for purposes identified under 7 CFR 4280.417(a)(1) and (2).eCFR :: 7 CFR 4280.417—Project eligibility.

(1) Leveraging. If the grant will fund a critical element of a larger program of economic development, without which the overall program either could not proceed or would be far less effective, or if the program to be assisted by the grant will also be partially funded from other sources, points will be awarded as follows. If RD's portion of project funding is: (i) less than 20 percent—30 points; (ii) 20 percent but less than 50 percent—20 points; (iii) 50 percent but less than 75 percent—10 points or 75 percent or more—0 points. If points are awarded for leveraging, funds must be spent proportionally, and if leveraged funds are not utilized proportionately with the grant, the Agency reserves the right to take any legal action, including terminating the grant. The application must contain a firm commitment in writing of other funding for the project or points will not be awarded to the application for leveraging.

(2) Points will be awarded for each of the following criteria met by the community or communities that will receive the benefit of the grant. However, regardless of the mathematical total of points indicated by paragraphs (2)(a) through (d) of this section, total points awarded under this paragraph (2) must not exceed 40.

(a) Trauma. Experiencing trauma due to a major natural disaster that occurred not more than 3 years prior to the filing of the application for assistance—15 points;

(b) Economic distress. The Community has suffered a loss of 20 percent or more in their total jobs caused by the closure of a military facility or other employers within the last 3 years—15 points;

(c) Long-term poverty. Has experienced long-term poverty as demonstrated by being a former rural empowerment zone, rural economic area partnership zone, rural enterprise champion community, or a persistent poverty county as determined by USDA's Economic Research Service—10 points;

(d) Population decline—10 points as demonstrated by the latest three decennial censuses.

(3) Population. Proposed project(s) will be located in a community of: (a) Under 5,000 population—15 points; (b) Between 5,000 and less than 15,000 population—10 points; or (c) Between 15,000 and 25,000 population—5 points.

(4) Unemployment. Proposed project(s) will be located in areas where the unemployment rate: (a) exceeds the State rate by 25 percent or more—20 points (b) exceeds the State rate by less than 25 percent—10 points or (c) is equal to or less than the State rate—0 points.

(5) Median household income. Proposed project(s) will be located in areas where Median Household Income (MHI) is: (a) Less than the poverty line for a family of four, as defined by section 673(2) of the Community Services Block Grant Act—25 points; (b) More than the poverty line for a family of four but less than 65 percent of State MHI—15 points; (c) Between 65 and 85 percent of State MHI—10 points; or (d) Greater than 85 percent State MHI—0 points.

(6) Experience. Applicant has evidence of successful experience in the type of activity. Evidence of successful experience may be a description of experience supplied and certified by the applicant based upon its current employees' resumes: (a) 10 or more years—30 points; (b) At least 5 but less than 10 years—20 points; (c) At least 3 years but less than 5 years—10 points; or (d) At least 1 but less than 3 years—5 points.

(7) Small business start-up or expansion. Applicant has evidence that small business development will be supported by startup or expansion as a result of the activities to be carried out under the grant. Written evidence of commitment by a small or a small and emerging business must be provided to the Agency and should include the number of jobs that will be supported and created. 5 points for each letter up to 25 points.

(8) Jobs created or supported. The anticipated development, expansion, or furtherance of business enterprises as a result of the proposed project will create and/or support existing jobs associated with the affected businesses. The number of jobs must be evidenced by a written commitment from the business to be assisted: (a) One job for less than $5,000—25 points; (b) One job for $5,000 but less than $10,000—20 points; (c) One job for $10,000 but less than $15,000—15 points; (d) One job for $15,000 but less than $20,000—10 points; or (e) One job for $20,000 but less than $25,000—5 points.

(9) Size of grant request. Grant projects utilizing funds available under this subpart of: (a) Less than $100,000—25 points; (b) $100,000 to $200,000—15 points; or (c) More than $200,000 but not more than $500,000—10 points.

(10) Indirect cost. Applicant is not requesting grant funds to cover their administrative or indirect costs—5 points.

(11) Discretionary points. Either the State Director or Administrator may assign up to 50 discretionary points to an application. Assignment of discretionary points must include a written justification. Permissible justifications are geographic distribution of funds, special Secretary of Agriculture initiatives such as Priority Communities, or a state's strategic goals. Discretionary points may only be assigned to initial grants. However, in the case where two projects have the same score, the State Director may add one point to the project that best fits the State's strategic plan regardless of whether the project is an initial or subsequent grant.

(c) The following are examples of special Secretary of Agriculture initiatives that can support obtaining discretionary points.

(1) Assisting rural communities recover economically through more and better market opportunities and through improved infrastructure. Applicant would receive priority points if the project is located in or serving one of the top 10 percent of counties or county equivalents based upon county risk score in the United States. The website, Rural Development: Key Priorities | Rural Development (usda.gov) https://www.rd.usda.gov/priority-points, has the data to confirm if your project location qualifies for these discretionary points.

(2) Ensuring all rural residents have equitable access to RD programs and benefits from RD funded projects. Applicant may receive priority points if the project is located in or serving a community with a score of 0.75 or above on the Center for Disease Control's Social Vulnerability Index. The website, Rural Development: Key Priorities | Rural Development (usda.gov), has the data to confirm if your project location qualifies or not.

(3) Reduce climate pollution and increasing resilience to the impacts of climate change through economic support to rural communities. Applicants may receive points if the project is located in or serving coal, oil and gas, and power plant communities whose economic well-being ranks in the most distressed tier of the Distressed Communities Index. The website, Rural Development: Key Priorities | Rural Development (usda.gov), has the data to confirm if your project location qualifies or not. Applicants may also receive points by demonstrating how proposed climate-impact projects improve the livelihoods of community residents and meet pollution mitigation or clean energy goals.

The Agency will assign each application a priority rating based on the total score and will select applications for funding based on the priority ratings and the total funds available to the program for opportunity-type projects and enterprise-type projects.

2. Review and Selection Process.

The RD State Offices will review applications to determine if they are eligible for assistance based on requirements contained in 7 CFR 4280.416 (https://www.ecfr.gov/current/title-7/section-4280.416) and 7 CFR 4280.417 (https://www.ecfr.gov/current/title-7/section-4280.417). Funding of projects is subject to the availability of funds and Applicant's satisfactory submission of the items required by 7 CFR part 4280, subpart E (https://www.ecfr.gov/current/title-7/part-4280/subpart-E) and this notice, in addition to any conditions specifically outlined in any issued USDA RD Letter of Conditions if available funds are to be awarded. The agency reserves the right to offer the applicant less than the grant funding requested.

The Agency will score each application based on the information contained in the application and its supporting information. All applications submitted for funding must be in one package and contain sufficient information to permit the Agency to complete a thorough priority rating. Agency employees may not consider any information that is not provided by the applicant in writing for scoring purposes. Applications will not be considered for funding if they do not provide sufficient information to determine eligibility or are missing required elements.

Applications for set-aside funds, if available, will compete at the National Office in their respective categories. Applications for regular RBDG projects will compete at the state level in their respective category, business opportunity grants or business enterprise grants, for funding made available through RD State allocated funds. Applications will be reviewed, prioritized by score, and funded by ranking each project in highest to lowest score order until available funds are exhausted. If funds are exhausted at the state level, each State's highest scoring unfunded business enterprise project will have the opportunity to compete for funding through a final national competition.

The Agency will notify eligible applicants in writing if RBDG funds are not available. The applicant is permitted to respond in writing that they wish their application to be reconsidered in the next fiscal year. The applicant may provide additional updated information to the Agency prior to the next fiscal year's application deadline for their project.

The Agency will notify eligible applicants in writing if set-aside funds are not available. Applications that are eligible for set-aside funds but are unfunded due to the availability of funds will be allowed to compete for available FY 2023 regular RBDG funds in the State where the project is located. For projects involving multiple states, the application will be returned to the RD State Office where the Applicant is located and will compete for funds in that State. The Agency will notify eligible applicants in writing if their application will not be funded in FY 2023 due to insufficient funds in the set-aside and regular RBDG programs.

F. Federal Award Administration Information

1. Federal Award Notices.

Successful applicants will receive notification for funding from the USDA RD State Office. Applicants must comply with all applicable statutes and regulations before the grant award can be approved and funded. If an application is withdrawn by the applicant, it can be resubmitted later and will be evaluated as a new application in the period submitted.

2. Administrative and National Policy Requirements.

Additional requirements that apply to grantees selected for this Program can be found in 7 CFR part 4280, subpart E (https://www.ecfr.gov/current/title-7/part-4280/subpart-E). Awards are subject to USDA grant regulations at 2 CFR part 400 (https://www.ecfr.gov/current/title-2/part-400) which incorporates the Office of Management and Budget (OMB) regulations at 2 CFR part 200 (https://www.ecfr.gov/current/title-2/part-200).

All successful applicants will be notified by letter which will include a Letter of Conditions and a Letter of Intent to Meet Conditions. This letter is not an authorization to begin performance, but it is a notification that grant funds may be awarded subject to conditions. The grant will be considered officially awarded when all conditions in the Letter of Conditions have been met and the Agency obligates the funding for the project. If the applicant wishes to consider beginning their project performance prior to the grant being officially closed, all pre-award costs must be approved in writing and in advance by the Agency.

Additional requirements that apply to grantees selected for these programs can be found in 7 CFR part 4280, subpart E (https://www.ecfr.gov/current/title-7/part-4280/subpart-E), the Grants and Agreements regulations of the U.S. Department of Agriculture codified in 2 CFR 400.1 (https://www.ecfr.gov/current/title-2/section-400.1) to 400.2 (https://www.ecfr.gov/current/title-2/section-400.2) and 2 CFR parts 415 (https://www.ecfr.gov/current/title-2/part-415) to 422 (https://www.ecfr.gov/current/title-2/part-422), and successor regulations to these parts.

In addition, all recipients of Federal financial assistance are required to report information about first-tier sub-awards and executive compensation (see 2 CFR part 170 (https://www.ecfr.gov/current/title-2/part-170)). The applicant will be required to have the necessary processes and systems in place to comply with the Federal Funding Accountability and Transparency Act of 2006 (Pub. L. 109-282—Federal Funding Accountability and Transparency Act of 2006—Content Details—(govinfo.gov)) reporting requirements (see 2 CFR 170.200(b) (https://www.ecfr.gov/current/title-2/section-170.200#p-170.200(b)), unless the recipient is exempt under 2 CFR 170.110(b) (https://www.ecfr.gov/current/title-2/section-170.110#p-170.110(b)).

The following additional requirements apply to grantees selected for these programs:

(a) Form RD 4280-2 “Rural Business-Cooperative Service Financial Assistance Agreement.”

(b) Letter of Conditions.

(c) Form RD 1940-1, “Request for Obligation of Funds.”

(d) Form RD 1942-46, “Letter of Intent to Meet Conditions.”

(e) SF LLL, “Disclosure of Lobbying Activities,” if applicable.

(f) Grantees will use Form SF 270, “Request for Advance or Reimbursement” when requesting grant funds from the Agency.

3. Reporting.

(a) A Financial Status Report and a Project Performance Activity Report will be required of all grantees on a quarterly basis until initial funds are expended and yearly thereafter, if applicable, based on the Federal fiscal year. Grantees must continuously monitor performance to ensure that time schedules are being met, projected work by time periods is being accomplished, and other performance objectives are being achieved. Grantees must submit an original of each report to the Agency no later than 30 days after the end of the quarter. The grantee will complete the project within the total time available to it in accordance with the Scope of Work and any necessary modifications thereof prepared by the grantee and approved by the Agency. A final Project Performance Report will be required with the final Financial Status Report. The final report may serve as the last quarterly report. The final report must provide complete information regarding the jobs created and supported as a result of the RBDG grant if applicable. The Project Performance Reports must include, but not be limited to, the following:

(1) A comparison of actual accomplishments to the objectives established for that period.

(2) Problems, delays, or adverse conditions, if any, which have affected or will affect attainment of overall project objectives, prevent meeting time schedules or objectives, or preclude the attainment of particular project work elements during established time periods. This disclosure shall be accompanied by a statement of the action taken or planned to resolve the situation.

(3) Objectives and timetable established for the next reporting period.

(4) Any special reporting requirements, such as jobs supported and created, businesses assisted, or economic development which results in improvements in median household incomes, and any other specific requirements, will be placed in the reporting section of the Letter of Conditions.

(5) Within 90 days after the conclusion of the project, the grantee will provide a final Project Evaluation Report. The last quarterly payment will be withheld until the final report is received and approved by the Agency. Even though the grantee may request reimbursement on a monthly basis, the last 3 months of reimbursements will be withheld until the final Project Evaluation, Project Performance, and Financial Status Reports are received and approved by the Agency.

(b) In addition to any reports required by 2 CFR part 200 (https://www.ecfr.gov/current/title-2/part-200) and 2 CFR 400.1 (https://www.ecfr.gov/current/title-2/section-400.1) to 400.2 (https://www.ecfr.gov/current/title-2/section-400.2), and 2 CFR parts 415 to 422 (https://www.ecfr.gov/current/title-2/section-415), the grantee must provide reports as required by 7 CFR part 4280, subpart E (https://www.ecfr.gov/current/title-7/part-4280/subpart-E).

G. Federal Awarding Agency Contact(s)

For general questions about this announcement, please contact your USDA RD State Office provided in the ADDRESSES section of this notice.

H. Buy America

Awards under this announcement for Infrastructure projects to Non-Federal entities, defined pursuant to 2 CFR 200.1 as any State, local government, Indian tribe, Institution of Higher Education, or nonprofit organization, shall be governed by the requirements of section 70914 of the Build America, Buy America Act (BABA) within the IIJA, and its implementing regulations. The Act requires the following Buy America preference:

(1) All iron and steel used in the project are produced in the United States. This means all manufacturing processes, from the initial melting stage through the application of coatings, occurred in the United States.

(2) All manufactured products used in the project are produced in the United States. This means the manufactured product was manufactured in the United States, and the cost of the components of the manufactured product that are mined, produced, or manufactured in the United States is greater than 55 percent of the total cost of all components of the manufactured product, unless another standard for determining the minimum amount of domestic content of the manufactured product has been established under applicable law or regulation.

(3) All construction materials are manufactured in the United States. This means that all manufacturing processes for the construction material occurred in the United States.

I. Other Information

Paperwork Reduction Act

In accordance with the Paperwork Reduction Act of 1995, the information collection requirement contained in this notice is approved by OMB under OMB Control Number 0570-0070.

Federal Funding Accountability and Transparency Act

All applicants, in accordance with 2 CFR part 25 (https://www.ecfr.gov/current/title-2/part-25), must be registered in SAM and have a UEI number as stated in section D.3. of this notice. All recipients of Federal financial assistance are required to report information about first-tier sub-awards and executive total compensation in accordance with 2 CFR part 170 (https://www.ecfr.gov/current/title-2/part-170).

Civil Rights Act

All grants made under this notice are subject to title VI of the Civil Rights Act of 1964 as required by the USDA (7 CFR part 15, subpart A (eCFR :: 7 CFR part 15 subpart A—Nondiscrimination in Federally-Assisted Programs of the Department of Agriculture—Effectuation of Title VI of the Civil Rights Act of 1964) and section 504 of the Rehabilitation Act of 1973, title VIII of the Civil Rights Act of 1968, title IX, Executive Order 13166 (Limited English Proficiency), Executive Order 11246, and the Equal Credit Opportunity Act of 1974.

Nondiscrimination Statement

In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at: https://www.usda.gov/sites/default/files/documents/usda-program-discrimination-complaint-form.pdf, from any USDA office, by calling (866) 632-9992, or by writing a letter addressed to USDA. The letter must contain the complainant's name, address, telephone number, and a written description of the alleged discriminatory action in sufficient detail to inform the Assistant Secretary for Civil Rights about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov. USDA is an equal opportunity provider, employer, and lender.

Karama Neal,
Administrator, Rural Business-Cooperative Service, USDA Rural Development.

[FR Doc. 2022-25532 Filed 11-22-22; 8:45 am]

BILLING CODE 3410-XY-P